DEPARTMENT OF HEALTH AND HUMAN SERVICES

Administration for Community Living

Agency Information Collection Activities; Submission for OMB Review; Public Comment Request; State Performance Report [OMB #0985-New]

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-Day notice collects comments on the information collection requirements related to the State Performance Report. This notice solicits comments on the new information collection requirements relating to the State Performance Report.

DATES: Comments on the collection of information must be submitted electronically by 11:59 p.m. (EST) or postmarked by June 21, 2021.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Susan Jenkins, Administration for Community Living, Washington, DC 20201, by email at Susan.Jenkins@acl.hhs.gov or by telephone at 202-795-7369.

SUPPLEMENTARY INFORMATION: In compliance with 44 U.S.C. 3507, ACL has submitted the following proposed collection of information to OMB for review and clearance.

The Administration for Community Living (ACL) is requesting approval to collect data for the currently approved SPR under 0985-0008 expiring in FY 2022, which is the final reporting year for the currently approved OMB control number (0985-0008). In order to comply with requirements under the PRA it is necessary to place this “new SPR” IC under a new OMB control number while keeping the currently approved SPR under 0985-0008 active for remaining reporting in FY 2022.

The purpose of this data collection is to fulfill requirements of the Older Americans Act and the Government Performance and Results Modernization Act (GPRA Modernization Act) of 2010 and related program performance activities.

Section 202(a)(16) of the OAA requires the collection of statistical data regarding the programs and activities carried out with funds provided under the OAA and Section 207(a) directs the Assistant Secretary on Aging to prepare and submit a report to the President and Congress based on those data.

Section 202(f) directs the Assistant Secretary to develop a set of performance outcome measures for planning, managing, and evaluating activities performed and services provided under the OAA. Requirements pertaining to the measurement and evaluation of the impact of all programs authorized by the OAA described in section 206(a). The State Performance Report is one source of data used to develop and report performance outcome measures and measure program effectiveness in achieving the stated goals of the OAA.

The Administration on Aging (now within the Administration for Community Living) first developed a State Program Report (SPR) in 1996 as part of its National Aging Program Information System (NAPIS). The SPR collects information about the national Aging Network, how State Agencies on Aging expend their OAA funds as well as funding from other sources for OAA authorized supportive services. The SPR also collects information on the demographic and functional status of the recipients, and is a key source for ACL performance measurement. This previously approved “New SPR” was a revision of the currently active version (effective 2019-2022) and approved in 2018, also assigned with the same OMB Control Number #0985-0001. This previously approved collection reduces the number of data elements reported by 70% compared to the 2019-2022 SPR.

ACL intends to seek a new OMB Control Number for the for the new SPR effective FY 2022-2025.

This request applies only to making an administrative change to the 2018 approved version of the State Performance Report for State Units on Aging (Older Americans Act Titles III and VII (Chapters 3 and 4) (“new SPR”). ACL intends to use this proposed data to collect information with the FY 2022 reporting year.

Comments in Response to the 60-Day Federal Register Notice: ACL published a 60-day notice in the Federal Register soliciting public comments on February 25, 2021, Volume 86, Number 36, pages 11541-11542. ACL received no comments.

Estimated Program Burden: ACL estimates an annual burden of 1,876 hours.

Respondent/data collection activity | Number of respondents | Responses per respondent | Hours per response | Annual burden hours
SPR | 56 | 1 | 33.5 | 1,876
Total | 56 | 1 | 33.5 | 1,876

Dated: May 17, 2021.
Alison Barkoff,
Acting Administrator and Assistant Secretary for Aging.

[FR Doc. 2021-10708 Filed 5-20-21; 8:45 am]

BILLING CODE 4154-01-P